SURFACE TRANSPORTATION BOARD

[Docket No. AB 1249]

Buckeye Hammond Railroad LLC—Abandonment Exemption—in Lake County, Ind.

On September 27, 2017, Buckeye Hammond Railroad LLC (BHRR) filed with the Surface Transportation Board (Board) a petition under 49 U.S.C. 10502 for exemption from the prior approval requirements of 49 U.S.C. 10903 to abandon approximately 1.29 miles of rail line located within the Hammond Transload Facility (Facility) in Hammond, Lake County, Ind., traversing United States Postal Service Zip Codes 46320 and 46312 (the Line). BHRR states that the Line does not include stations other than the Facility and does not have milepost designations.

According to BHRR, Buckeye Terminals, LLC, is the only shipper on the Line, which is used exclusively for transloading and interchange with the Indiana Harbor Belt Railroad (IHBR). Upon consummation of the proposed transaction, BHRR states that IHBR would continue to pick up and deliver traffic to the Facility as a common carrier. BHRR states that, Buckeye Terminals, which will be BHRR's successor as owner of the Line, or a contractor for Buckeye Terminals, would move cars around the Facility for its own internal use. According to BHRR, Buckeye Terminals would continue to receive and deliver traffic to IBHR at the property, but would do so over private track that would no longer be subject to this Board's jurisdiction. BHRR states that no other customers have requested common carrier service from BHRR.

According to BHRR, the Line is stub-ended and therefore may not accommodate overhead traffic. BHRR states that, based on information in its and Buckeye Terminals' possession, the Line does not contain federally granted rights-of-way. Any documentation in their possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by January 12, 2018.

Any offer of financial assistance (OFA) under 49 CFR 1152.27(b)(2) will be due no later than 10 days after service of a decision granting the petition for exemption. Each OFA must be accompanied by a $1,800 filing fee. See 49 CFR 1002.2(f)(25).

All interested persons should be aware that, following abandonment, the Line may be suitable for other public use, including interim trail use. Any request for a public use condition under 49 CFR 1152.28 or for interim trail use/rail banking under 49 CFR 1152.29 will be due no later than November 6, 2017. Each interim trail use request must be accompanied by a $300 filing fee. See 49 CFR 1002.2(f)(27).

All filings in response to this notice must refer to Docket No. AB 1249 and must be sent to: (1) Surface Transportation Board, 395 E Street SW., Washington, DC 20423-0001; and (2) Charles A. Spitulnik, Kaplan Kirsch & Rockwell LLP, 1001 Connecticut Avenue NW., Suite 800, Washington, DC 20036. Replies to the petition are due on or before November 6, 2017.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available on our Web site at WWW.STB.GOV.

Decided: October 12, 2017.
By the Board, Scott M. Zimmerman, Acting Director, Office of Proceedings.
Tammy Lowery,
Clearance Clerk.

[FR Doc. 2017-22477 Filed 10-16-17; 8:45 am]

BILLING CODE 4915-01-P